DEPARTMENT OF HOMELAND SECURITY

Federal Emergency Management Agency

[Docket ID FEMA-2022-0002; Internal Agency Docket No. FEMA-B-2280]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator for Risk Management (Acting), Federal Emergency Management Agency, Department of Homeland Security.

State and county | Location and case No. | Chief executive officer of community | Community map repository | Online location of letter of map revision | Date of modification | Community No.
Arizona:
Maricopa | Unincorporated Areas of Maricopa County (22-09-0553P). | The Honorable Bill Gates, Chair, Board of Supervisors, Maricopa County, 301 West Jefferson Street, 10th Floor, Phoenix, AZ 85003. | Flood Control District of Maricopa County, 2801 West Durango Street, Phoenix, AZ 85009. | https://msc.fema.gov/portal/advanceSearch. | Jan. 6, 2023 | 040037
Pima | Town of Marana (22-09-0373P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Jan. 13, 2023 | 040118
California:
Nevada | City of Grass Valley (22-09-0608P). | The Honorable Ben Aguilar, Mayor, City of Grass Valley, 125 East Main Street, Grass Valley, CA 95945. | Public Works Department, 125 East Main Street, Grass Valley, CA 95945. | https://msc.fema.gov/portal/advanceSearch. | Jan. 12, 2023 | 060211
Placer | Unincorporated Areas of Placer County (22-09-0128P). | The Honorable Cindy Gustafson, Chair, Placer County Board of Supervisors, 175 Fulweiler Avenue, Suite 206, Auburn, CA 95603. | Placer County Public Works, 3091 County Center Drive, Suite 220, Auburn, CA 95603. | https://msc.fema.gov/portal/advanceSearch. | Jan. 9, 2023 | 060239
Riverside | City of Moreno Valley (22-09-0602P). | The Honorable Yxstian A. Gutierrez, Mayor, City of Moreno Valley, 14177 Frederick Street, Moreno Valley, CA 92552. | Public Works Department, 14177 Frederick Street, Moreno Valley, CA 92552. | https://msc.fema.gov/portal/advanceSearch. | Jan. 9, 2023 | 065074
San Bernardino | City of Fontana (20-09-1006P). | The Honorable Acquanetta Warren, Mayor, City of Fontana, 8353 Sierra Avenue, Fontana, CA 92335. | City Hall, Engineering Department, 8353 Sierra Avenue, San Bernardino, CA 92415. | https://msc.fema.gov/portal/advanceSearch. | Dec. 12, 2022 | 060274
San Bernardino | City of Rialto (20-09-1006P). | The Honorable Deborah Robertson, Mayor, City of Rialto, 150 South Palm Avenue, Rialto, CA 92376. | City Hall, 150 South Palm Avenue, Rialto, CA 92376. | https://msc.fema.gov/portal/advanceSearch. | Dec. 12, 2022 | 060280
San Bernardino | City of San Bernardino (20-09-1006P). | The Honorable John Valdivia, Mayor, City of San Bernardino, 290 North D Street, San Bernardino, CA 92401. | City Hall, 300 North D Street, San Bernardino, CA 92418. | https://msc.fema.gov/portal/advanceSearch. | Dec. 12, 2022 | 060281
San Bernardino | Unincorporated Areas of San Bernardino County (20-09-1006P). | The Honorable Curt Hagman, Chair, Board of Supervisors, San Bernardino County, 385 North Arrowhead Avenue, 5th Floor, San Bernardino, CA 92415. | San Bernardino County Public Works, Water Resources Department, 825 East 3rd Street, San Bernardino, CA 92415. | https://msc.fema.gov/portal/advanceSearch. | Dec. 12, 2022 | 060270
Florida:
Nassau | Town of Callahan (21-04-4290P). | The Honorable Matthew Davis, Mayor, Town of Callahan, 542300 US Hwy 1, Callahan, FL 32011. | Town Hall, 542300 US Highway 1, Callahan, FL 32011. | https://msc.fema.gov/portal/advanceSearch. | Jan. 12, 2023 | 120171
Nassau | Unincorporated Areas of Nassau County (21-04-4290P). | The Honorable Jeff Gray, Chair, Nassau County Board of Commissioners, 97572 Pirates Point Road, Yulee, FL 32097. | Nassau County Building Department, 96161 Nassau Place, Yulee, FL 32097. | https://msc.fema.gov/portal/advanceSearch. | Jan. 12, 2023 | 120170
Hawaii: Honolulu | City and County of Honolulu (21-09-0747P). | The Honorable Rick Blangiardi, Mayor, City and County of Honolulu, 530 South King Street, Room 300, Honolulu, HI 96813. | Department of Planning and Permitting, 650 South King Street, 1st Floor, Honolulu, HI 96813. | https://msc.fema.gov/portal/advanceSearch. | Dec. 6, 2022 | 150001
Idaho:
Blaine | City of Ketchum (22-10-0349P). | The Honorable Neil Bradshaw, Mayor, City of Ketchum, City Hall, P.O. Box 2315, Ketchum, ID 83340. | City Hall, 480 East Avenue North, Ketchum, ID 83340. | https://msc.fema.gov/portal/advanceSearch. | Dec. 22, 2022 | 160023
Blaine | Unincorporated Areas of Blaine County (22-10-0349P). | Chair Dick Fosbury, Blaine County Board of Commissioners, Old County Courthouse, 206 South 1st Avenue, Hailey, ID 83333. | Blaine County Planning & Zoning, 219 1st Avenue South, Suite 208, Hailey, ID 83333. | https://msc.fema.gov/portal/advanceSearch. | Dec. 22, 2022 | 165167
Nevada:
Clark | City of North Las Vegas (22-09-0330P). | The Honorable John J. Lee, Mayor, City of North Las Vegas, 2250 Las Vegas Boulevard North, North Las Vegas, NV 89030. | Public Works Department, 2250 Las Vegas Boulevard North, Suite 200, North Las Vegas, NV 89030. | https://msc.fema.gov/portal/advanceSearch. | Jan. 11, 2023 | 320007
Washoe | City of Sparks (22-09-0027P). | The Honorable Ed Lawson, Mayor, City of Sparks, 431 Prater Way, Sparks, NV 89431. | City Hall, 431 Prater Way, Sparks, NV 89431. | https://msc.fema.gov/portal/advanceSearch. | Dec. 12, 2022 | 320021
Washoe | Unincorporated Areas of Washoe County (22-09-0027P). | The Honorable Vaughn Hartung, Chair, Board of Commissioners, Washoe County, 1001 East 9th Street, Reno, NV 89512. | Washoe County Administration Building, Department of Public Works, 1001 East 9th Street, Reno, NV 89512. | https://msc.fema.gov/portal/advanceSearch. | Dec. 12, 2022 | 320019
Washington: Okanogan | Unincorporated Areas of Okanogan County (22-10-0287P). | Chair Chris Branch, Board of Commissioners, District 1, 149 North 3rd Avenue, Okanogan, WA 98840. | Okanogan Planning Department, 123 North 5th Street, Okanogan, WA 98840. | https://msc.fema.gov/portal/advanceSearch. | Dec. 16, 2022 | 530117
Wisconsin:
Brown | Unincorporated Areas of Brown County (22-05-0903P). | Commissioner Patrick Buckley, Brown County, 305 East Walnut Street, Green Bay, WI 54305. | Brown County Zoning Office, 305 East Walnut Street, Green Bay, WI 54301. | https://msc.fema.gov/portal/advanceSearch. | Dec. 19, 2022 | 550020
Brown | Village of Bellevue (21-05-4432P). | President Steve Soukup, Village of Bellevue, 2828 Allouez Avenue, Bellevue, WI 54311. | Village Hall, 2828 Allouez Avenue, Bellevue, WI 54311. | https://msc.fema.gov/portal/advanceSearch. | Dec. 15, 2022 | 550627
Brown | Village of Hobart (22-05-0903P). | President Richard Heidel, Village of Hobart, 2990 South Pine Tree Road, Hobart, WI 54155. | Village Hall, 2990 South Pine Tree Road, Hobart, WI 54155. | https://msc.fema.gov/portal/advanceSearch. | Dec. 19, 2022 | 550626

[FR Doc. 2022-22131 Filed 10-11-22; 8:45 am]

BILLING CODE 9110-12-P